DEPARTMENT OF COMMERCE

Economic Development Administration

Notice of Petitions by Firms for Determination of Eligibility To Apply for Trade Adjustment Assistance

AGENCY: Economic Development Administration, Department of Commerce

ACTION: Notice and Opportunity for Public Comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[9/9/2015 through 9/15/2015]
Firm name | Firm address | Date accepted for investigation | Product(s)
Bruckman Rubber Company | 101 South St., Joseph Avenue, Hastings, NE 68902 | 9/10/2015 | The firm produces industrial rubber products produced by molding and die cutting custom rubber compounds.
C&P Plastics, Inc | 8005 Highway 36 North, Brenham, TX 77833 | 9/11/2015 | The firm manufactures precision plastic parts for multiple industries.
Gateway Shoes, LLC | 910 Kehrs Mill Road, Suite 112, Ballwin, MO 630111 | 9/11/2015 | The firm manufactures formal dress shoes for men and boys/children- made of rubber, plastic and leather.
Okubo Gear America, Inc. and Subsidiary—Avon Gear Company | 11968 Investment Drive, Shelby Township, MI 48315 | 9/11/2015 | The firm manufactures large diameter, tight tolerance, machined parts used in roller bearing assemblies and other components.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: September 15, 2015.
Michael S. DeVillo,
Eligibility Examiner.

[FR Doc. 2015-23670 Filed 9-18-15; 8:45 am]

BILLING CODE 3510-WH-P